DEPARTMENT OF THE TREASURY

Internal Revenue Service

Open Meeting of the Joint Committee of the Taxpayer Advocacy Panel

AGENCY: Internal Revenue Service (IRS), Treasury.

ACTION: Notice of meeting.

SUMMARY: An open meeting of the Joint Committee of the Taxpayer Advocacy Panel will be conducted. The Taxpayer Advocacy Panel is soliciting public comment, ideas, and suggestions on improving customer service at the Internal Revenue Service.

DATES: The meeting will be held Wednesday, April 4, 2007, at 1 p.m., Eastern Time.

FOR FURTHER INFORMATION CONTACT: Barbara Toy at 1-888-912-1227, or (414) 231-2360.

SUPPLEMENTARY INFORMATION: Notice is hereby given pursuant to Section 10(a)(2) of the Federal Advisory Committee Act, 5 U.S.C. App. (1988) that an open meeting of the Joint Committee of the Taxpayer Advocacy Panel (TAP) will be held Wednesday, April 4, 2007, at 1 p.m. Eastern Time via a telephone conference call. You can submit written comments to the panel by faxing to (414) 231-2363, or by mail to Taxpayer Advocacy Panel, Stop 1006MIL, P.O. Box 3205, Milwaukee, WI, 53201-3205, or you can contact us at http://www.improveirs.org. Please contact Barbara Toy at 1-888-912-1227 or (414) 231-2360 for additional information.

The agenda will include the following: discussion of issues and responses brought to the Joint Committee; office report; and discussion of next meeting.

Dated: March 7, 2007.
John Fay,
Acting Director, Taxpayer Advocacy Panel.

[FR Doc. E7-4600 Filed 3-13-07; 8:45 am]

BILLING CODE 4830-01-P